DEPARTMENT OF THE INTERIOR

Office of the Secretary

Secretarial Commission on Indian Trust Administration and Reform

AGENCY: Office of the Secretary, Interior.

ACTION: Notice of meeting.

SUMMARY: The Office of the Secretary is announcing that the Secretarial Commission on Indian Trust Administration and Reform (the Commission) will hold a public meeting on June 11 and 12, 2012. The Commission has gathered input and information from two public meetings and has requested feedback on five questions regarding the development of a comprehensive evaluation of how the Department of the Interior manages and administers its trust responsibilities to American Indians and Alaska Natives. The five questions can be found at http://www.doi.gov/cobell/commission/index.cfm under “Tribal Outreach Letter.” The Secretarial Commission's charter requires the Commission to provide well-reasoned and factually based recommendations for potential improvements to the existing management and administration of the trust administration system. The Commission is committed to early public engagement and welcomes your participation in these important meetings.

DATES: The Commission's public meeting will begin at 8 a.m. and end at 5 p.m. on June 11, 2012, and will begin at 8:30 a.m. and end at 4 p.m. on June 12, 2012. Attendance is open to the public, but limited space is available. Members of the public who wish to attend should respond by June 7, 2012, to: trustcommission@ios.doi.gov.

ADDRESSES: The public meeting will be held at the Office of the Special Trustee for American Indians, 4400 Masthead Street NE., Room 145, Albuquerque, NM 87109. The meeting will be held in a federal facility. We encourage you to respond to trustcommission@ios.doi.gov by June 7, 2012, and plan on arriving early with your photo ID to adhere to building security requirements.

FOR FURTHER INFORMATION CONTACT: The Designated Federal Officer, Lizzie Marsters, Chief of Staff to the Deputy Secretary, Department of the Interior, 1849 C Street NW., Room 6118, Washington, DC 20240; or email to Lizzie_Marsters@ios.doi.gov.

SUPPLEMENTARY INFORMATION: As part of President Obama's commitment to fulfilling this nation's trust responsibilities to American Indians and Alaska Natives, the Secretary of the Interior appointed five members to serve on the Secretarial Commission on Indian Trust Administration and Reform, established under Secretarial Order No. 3292, dated December 8, 2009. The Commission plays a key role in the Department's ongoing efforts to empower Indian nations and strengthen government-to-government relationships.

The Commission will complete a comprehensive evaluation of the Department's management and administration of the trust assets within a two-year period and offer recommendations to the Secretary of the Interior on how to improve in the future. The Commission will:

(1) Conduct a comprehensive evaluation of the Department's management and administration of the trust administration system;

(2) Review the Department's provision of services to trust beneficiaries;

(3) Review input from the public, interested parties, and trust beneficiaries, which should involve conducting a number of regional listening sessions;

(4) Consider the nature and scope of necessary audits of the Department's trust administration system;

(5) Recommend options to the Secretary to improve the Department's management and administration of the trust administration system based on information obtained from the Commission's activities, including whether legislative or regulatory changes are necessary to implement the improvements; and

(6) Consider the provisions of the American Indian Trust Fund Management Reform Act of 1994 providing for termination of the Office of the Special Trustee for American Indians (OST), and make recommendations to the Secretary regarding termination.

The following items will be on the agenda:

Monday, June 11, 2012

• Welcome blessing

• Status update on settlement

• Review and report on Commission operations

• Trust Relationship Subcommittee report and panel session

• Trust Models Subcommittee report and panel session

• Discussion of comments received to-date in response to questions in Commission Outreach letter

• Public round robin session to share perspectives regarding any of the previous panel discussion questions

○ Do you have any recommendations or suggestions that would improve the government-to-government relationship between the Department of the Interior and tribes with respect to trust administration?

○ Are there any other trust administration models the Commission should examine as it looks towards improving the Department of the Interior's trust administration and management?

• Commissioner reflections from round robin

• Review agreements and action items for the day

Tuesday, June 12, 2012

• Status update on BIA consultations, preliminary overview of comments

• Trust Management and Administration Subcommittee report

• Trust Management and Administration Panel Session presentation and discussion

• Commission work plan—discuss updates, including updates to subcommittee charge

• Public round robin session to share perspectives regarding any of the previous panel discussion questions

○ Do you have any recommendations to improve or streamline delivery of services to trust beneficiaries? This includes matters related to financial management and accounting functions, as well as natural resource management functions.

○ Do you have any recommendations to improve or strengthen trust management and/or administration based on information gathered in the course of litigation and settlement of the recent tribal breach-of-trust cases announced in early April of this year?

○ Given that the sunset provision in the American Indian Trust Fund Management Reform Act of 1994 was predicated on OST's oversight and reform responsibilities, and that OST now has additional operational duties, should the Commission recommend sunsetting the OST?

• Suggested topics for next meeting

• Review action items and meeting accomplishments

• Closing blessing, adjourn

Written comments may be sent to the Designated Federal Officer listed in the FOR FURTHER INFORMATION CONTACT section above. To review all related material on the Commission's work, please refer to http://www.doi.gov/cobell/commission/index.cfm. All meetings are open to the public.

Dated: May 19, 2012.
David J. Hayes,
Deputy Secretary.

[FR Doc. 2012-12739 Filed 5-24-12; 8:45 am]

BILLING CODE 4310-W7-P